DEPARTMENT OF ENERGY

Federal Energy Regulatory Commission

[Project No. 7590-016]

City of Nashua, New Hampshire; Notice of Availability of Environmental Assessment

In accordance with the National Environmental Policy Act of 1969 and the Federal Energy Regulatory Commission's (Commission or FERC) regulations, 18 Code of Federal Regulations (CFR) part 380, Commission staff reviewed City of Nashua, New Hampshire's application for an amendment to the exemption of the Jackson Mills Hydroelectric Project No. 7590 and have prepared an Environmental Assessment (EA). The licensee proposes to replace the aging turbine/generator. The riverbed immediately downstream of the powerhouse will be recontoured to allow for the proper placement of the new turbine/generator. The project is located on the Nashua River in the Hillsborough County, New Hampshire. The project does not occupy federal lands.

The EA contains Commission staff's analysis of the potential environmental effects of the proposed amendment to the exemptee, and concludes that the proposed amendment, with appropriate environmental protective measures, would not constitute a major federal action that would significantly affect the quality of the human environment.

A copy of the EA may be viewed on the Commission's website at http://www.ferc.gov using the “elibrary” link. Enter the docket number (P-7590) in the docket number field to access the document. For assistance, contact FERC Online Support at FERCOnlineSupport@ferc.gov or toll-free at 1-866-208-3372, or for TTY, (202) 502-8659.

For further information, contact Jeffrey V. Ojala at 202-502-8206 or Jeffrey.Ojala@ferc.gov.

Dated: December 9, 2022.
Kimberly D. Bose,
Secretary.

[FR Doc. 2022-27202 Filed 12-14-22; 8:45 am]

BILLING CODE 6717-01-P